DEPARTMENT OF HOMELAND SECURITY

Coast Guard

[Docket No. USCG-2019-0879]

Cooperative Research and Development Agreement—Shipboard Information Technology Network Optimization

AGENCY: Coast Guard, DHS.

ACTION: Notice of intent; request for comments.

SUMMARY: The Coast Guard announces its intent to enter into a cooperative research and development agreement (CRADA) with several companies to evaluate the suitability of implementing Wide Area Network (WAN) optimization technology in a shipboard environment. The CRADA will explore WAN optimization technologies and how they can be implemented for shipboard use under a variety of scenarios. While the Coast Guard is currently considering partnering with SWISH DATA CORPORATION (SWISH), we are soliciting public comment on the possible participation of other parties in the proposed CRADA. The Coast Guard also invites other potential non-Federal participants, who have the interest and capability to bring similar contributions to this type of research, to consider submitting proposals for consideration in similar CRADAs.

DATES: Comments must be submitted to the online docket via http://www.regulations.gov, or reach the Docket Management Facility, on or before February 6, 2020.

Synopses of proposals regarding future CRADAs must reach the Coast Guard (see FOR FURTHER INFORMATION CONTACT) on or before February 6, 2020.

ADDRESSES: Submit comments online at http://www.regulations.gov following website instructions.

FOR FURTHER INFORMATION CONTACT: If you have questions on this notice or wish to submit proposals for future CRADAs, contact LCDR Grant Wyman, Project Official, IT and Networks Branch, U.S. Coast Guard Research and Development Center, 1 Chelsea Street, New London, CT 06320, telephone 860-271-2727, email Grant.C.Wyman@uscg.mil.

SUPPLEMENTARY INFORMATION:

Public Participation and Request for Comments

We request public comments on this notice. Although we do not plan to respond to comments in the Federal Register, we will respond directly to commenter and may modify our proposal in light of comments.

Comments should be marked with docket number USCG-2019-0879 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal rulemaking Portal at http://www.regulations.gov. If your material cannot be submitted using http://www.regulations.gov, contact the Coast Guard (see FOR FURTHER INFORMATION CONTACT). Documents mentioned in this notice and all public comments, are in our online docket at http://www.regulations.gov and can be viewed by following that website's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the Coast Guard's Research and Development Center (RDC) will collaborate with one or more non-Federal participants. Together, the RDC and the non-Federal participants will evaluate the suitability of WAN optimization technologies in a shipboard environment.

We anticipate that the Coast Guard's contributions under the proposed CRADA will include the following:

(1) Develop a test plan for execution under the CRADA;

(2) Provide network access, data, facilities, and approvals required for work under the CRADA;

(3) Collect and analyze test plan data; and

(4) Develop a report documenting the methodologies, findings, conclusions, and recommendations related to this CRADA work.

We anticipate that the non-Federal participants' contributions under the proposed CRADA will include the following:

(1) Provide WAN optimization technologies to conduct work to be described in test plan;

(2) Provide required operators and technicians to perform work identified in the test plan;

(3) Provide technical data for the equipment and services to be utilized;

(4) Provide shipment and delivery of any equipment required;

(5) Provide travel and associated personnel and other expenses as required for subject work.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering SWISH, for participation in this CRADA. However, we do not wish to exclude other viable participants from this or future similar CRADAs.

This is a technology suitability effort. The goal of this CRADA is to evaluate the suitability of implementing WAN optimization technology in a shipboard environment. Special consideration will be given to small business firms/consortia, and preference will be given to business units located in the U.S.

This notice is issued under the authority of 5 U.S.C. 552(a).

Dated: December 17, 2019.
Captain Gregory C. Rothrock,
Commanding Officer, U.S. Coast Guard Research and Development Center.

[FR Doc. 2020-00033 Filed 1-6-20; 8:45 am]

BILLING CODE 9110-04-P